DEPARTMENT OF JUSTICE

[OMB Number 1105-0099]

Agency Information Collection Activities; Proposed eCollection eComments Requested; Reinstatement With Change of a Previously Approved Collection; USMS Medical Forms

AGENCY: U.S. Marshals Service, Department of Justice.

ACTION: 30-Day notice.

SUMMARY: The U.S. Marshals Service (USMS), Department of Justice (DOJ), will be submitting the following information collection request to the Office of Management and Budget (OMB) for review and approval in accordance with the Paperwork Reduction Act of 1995.

DATES: Comments are encouraged and will be accepted for 30 days until August 7, 2025.

FOR FURTHER INFORMATION CONTACT: The proposed information collection was previously published in the Federal Register on May 2, 2025, 90 FR 18868, allowing a 60-day comment period. If you have additional comments especially on the estimated public burden or associated response time, suggestions, or need a copy of the proposed information collection instrument with instructions or additional information, please contact Assistant Chief Karl Slazer/Management Support Division, U.S. Marshals Service Headquarters, 1215 S Clark St., Ste. 10017, Arlington, VA 22202-4387, by telephone at 703-740-2316 or by email at karl.slazer@usdoj.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: As a law enforcement agency, the United States Marshals Service has unique medical requirements that prevent USMS from using current medical-related Standard and Optional forms. These forms have been developed to allow USMS to ensure that the applicants, contract employees and current federal employees who work in operational law enforcement positions are physically fit enough to perform their duties safely and successfully.

Overview of This Information Collection

1. Type of Information Collection: Reinstatement with change of a previously approved collection.

2. The Title of the Form/Collection: USMS Medical Forms.

3. The agency form numbers, if any, and the applicable component of the Department sponsoring the collection:

○ USM-522A—Physician Evaluation Report for USMS Operational Employees

○ USM-522P—Physician Evaluation Report for USMS Operational Employees—Pregnancy Only

○ USM-602—Contract Guard Physical Examination Report (superseding USM-600 Physical Requirements of USMS District Security Officers)

○ CSO-012—Request to Reevaluate Court Security Officer's Medical Qualification

○ SSO-012—Request to Reevaluate Special Security Officer's Medical Qualification

4. Affected public who will be asked or required to respond, as well as the obligation to respond:

○ USM-522A—Physician Evaluation Report for USMS Operational Employees

• Affected public: Private sector (Physicians)

• Brief abstract: This form is completed by an USMS operational employee's treating physician to report any illness/injury (other than pregnancy) that requires restriction from full performance of duties for longer than 80 consecutive hours.

○ USM-522P—Physician Evaluation Report for USMS Operational Employees (Pregnancy Only)

• Affected public: Private sector (Physicians)

• Brief abstract: Form USM-522P must be completed by the OB/GYN physician of pregnant USMS operational employees to specify any restrictions from full performance of duties.

○ USM-602—Contract Guard Physical Examination Report (superseding USM-600—Physical Requirements of USMS District Security Officers)

• Affected public: Private sector (Physicians)

• Brief abstract: It is the policy of the USMS to ensure a law enforcement work force that is medically able to safely perform the required job functions. All applicants for law enforcement positions must have pre-employment physical examinations; existing District Security Officers (DSOs) must recertify that they are physically fit to perform the duties of their position each year. DSOs are individual contractors, not employees of USMS; Form USM-522 does not apply to DSOs.

○ CSO-012—Request to Reevaluate Court Security Officer's Medical Qualification

• Affected public: Private sector (Physicians)

• Brief abstract: This form is completed by the Court Security Officer (CSO)'s attending physician to determine whether a CSO is physically able to return to work after an injury, serious illness, or surgery. The physician returns the evaluation to the contracting company, and if the determination is that the CSO may return to work, the CSO-012 is then signed off on by the contracting company and forwarded to the USMS for final review by USMS' designated medical reviewing official. Court Security Officers are contractors, not employees of USMS; Form USM-522A does not apply to CSOs.

○ SSO-012—Request to Reevaluate Court Security Officer's Medical Qualification

• Affected public: Private sector (Physicians)

• Brief abstract: Form SSO-012 must be completed by a Special Security Officer (SSO)'s attending physician when an SSO is returning to perform security services for the U.S. Marshals Service after recovering from an injury, extended illness, and/or outpatient or inpatient surgery to ensure the SSO is medically qualified to return to duty.

The obligation to respond is voluntary.

5. An estimate of the total number of respondents and the amount of time estimated for an average respondent to respond:

○ USM-522A—Physician Evaluation Report for USMS Operational Employees

• It is estimated that 208 respondents will complete a 20-minute form twice per year.

○ USM-522P—Physician Evaluation Report for USMS Operational Employees (Pregnancy Only)

• It is estimated that 7 respondents will complete a 15-minute form twice per year.

○ USM-602—Contract Guard Physical Examination Report (superseding USM-600—Physical Requirements of USMS District Security Officers)

• It is estimated that 2,000 respondents will complete a 20-minute form.

○ CSO-012—Request to Reevaluate Court Security Officer's Medical Qualification

• It is estimated that 300 respondents will complete a 30-minute form.

○ SSO-102—Request to Reevaluate Court Security Officer's Medical Qualification

• It is estimated that 27 respondents will complete a 30-minute form.

6. An estimate of the total annual burden (in hours) associated with the collection:

a. USM-522A—Physician Evaluation Report for USMS Operational Employees

i. There are an estimated 139 annual total burden hours associated with this collection.

b. USM-522P—Physician Evaluation Report for USMS Operational Employees (Pregnancy Only)

i. There are an estimated 4 annual total burden hours associated with this collection.

c. USM-602—Contract Guard Physical Examination Report (superseding USM-600—Physical Requirements of USMS District Security Officers)

i. There are an estimated 667 annual total burden hours associated with this collection.

d. CSO-012—Request to Reevaluate Court Security Officer's Medical Qualification

i. There are an estimated 150 annual total burden hours associated with this collection.

e. SSO-012—Request to Reevaluate Special Security Officer's Medical Qualification

i. There are an estimated 14 annual total burden hours associated with this collection.

Total Annual Time Burden (Hr): 974.

7. An estimate of the total annual cost burden associated with the collection, if applicable:

Total Burden Hours
Activity | Number of respondents | Frequency | Total annual responses | Time per response (min.) | Total annual burden (hours)
Physicians | 208 | As needed (2/annually) | 416 | 20 | 139
Physicians | 7 | As needed (2/annually) | 14 | 15 | 4
Physicians | 2,000 | As needed (1/annually) | 2,000 | 20 | 667
Physicians | 300 | As needed (1/annually) | 300 | 30 | 150
Physicians | 27 | As needed (1/annually) | 27 | 30 | 14
Unduplicated Totals | 2,542 |  | 2,757 |  | 974

Estimated Annual Cost Burden: $152,721.

If additional information is required contact: Darwin Arceo, Department Clearance Officer, United States Department of Justice, Justice Management Division, Policy and Planning Staff, Two Constitution Square, 145 N Street NE, 4W-218, Washington, DC.

Dated: July 3, 2025.
Darwin Arceo,
Department Clearance Officer for PRA, U.S. Department of Justice.

[FR Doc. 2025-12661 Filed 7-7-25; 8:45 am]

BILLING CODE 4410-04-P